ENVIRONMENTAL PROTECTION AGENCY

40 CFR Part 52

[R06-OAR-2005-TX-0009; FRL-7912-6]

Approval and Promulgation of Air Quality Implementation Plans; Texas; Clean Air Action Plan and Attainment Demonstration for the Northeast Texas Early Action Compact Area; Agreed Orders Regarding Control of Air Pollution for the Northeast Texas Area

AGENCY: Environmental Protection Agency (EPA).

ACTION: Proposed rule.

SUMMARY: EPA is proposing to approve Texas State Implementation Plan (SIP) revisions submitted by the State on July 18, 2002 and December 6, 2004. Approval will incorporate the following changes into the SIP: The Clean Air Action Plan (CAAP) and the related attainment demonstration of the 8-hour ozone standard for the Northeast Texas Early Action Compact (EAC) area and Agreed Orders regarding control of air pollution for the Northeast Texas area. We are proposing approval pursuant to sections 110 and 116 of the Federal Clean Air Act (CAA). The revisions will contribute to improvement in air quality and continued attainment of the national ambient air quality standards (NAAQS) for ozone in Northeast Texas.

DATES: Written comments should be received on or before June 15, 2005.

ADDRESSES: Submit your comments, identified by Regional Materials in EDocket (RME) ID No. R06-OAR-2005-TX-0009, by one of the following methods:

• Federal eRulemaking Portal: http://www.regulations.gov. Follow the on-line instructions for submitting comments.

• Agency Web site: http://docket.epa.gov/rmepub/. Regional Materials in EDocket (RME), EPA's electronic public docket and comment system, is EPA's preferred method for receiving comments. Once in the system, select “quick search,” then key in the appropriate RME Docket identification number. Follow the online instructions for submitting comments.

• EPA Region 6 “Contact Us” Web site: http://epa.gov/region6/r6coment.htm. Please click on “6PD” (Multimedia) and select “Air” before submitting comments.

• E-mail: Mr. Thomas Diggs at diggs.thomas@epa.gov. Please also send a copy by e-mail to the person listed in the FOR FURTHER INFORMATION CONTACT section below.

• Fax: Mr. Thomas Diggs, Chief, Air Planning Section (6PD-L), at fax number 214-665-7263.

• Mail: Mr. Thomas Diggs, Chief, Air Planning Section (6PD-L), Environmental Protection Agency, 1445 Ross Avenue, Suite 1200, Dallas, Texas 75202-2733.

• Hand or Courier Delivery: Mr. Thomas Diggs, Chief, Air Planning Section (6PD-L), Environmental Protection Agency, 1445 Ross Avenue, Suite 1200, Dallas, Texas 75202-2733. Such deliveries are accepted only between the hours of 8 a.m. and 4 p.m. weekdays except for legal holidays. Special arrangements should be made for deliveries of boxed information.

Instructions: Direct your comments to RME ID No. R06-OAR-2005-TX-0009. EPA's policy is that all comments received will be included in the public file without change and may be made available online at http://docket.epa.gov/rmepub/, including any personal information provided, unless the comment includes information claimed to be Confidential Business Information (CBI) or other information the disclosure of which is restricted by statute. Do not submit information through Regional Materials in EDocket (RME), regulations.gov or e-mail if you believe that it is CBI or otherwise protected from disclosure. The EPA RME Web site and the Federal regulations.gov Web site are “anonymous access” systems, which means EPA will not know your identity or contact information unless you provide it in the body of your comment. If you send an e-mail comment directly to EPA without going through RME or regulations.gov, your e-mail address will be automatically captured and included as part of the comment that is placed in the public file and made available on the Internet. If you submit an electronic comment, EPA recommends that you include your name and other contact information in the body of your comment and with any disk or CD-ROM you submit. If EPA cannot read your comment due to technical difficulties and cannot contact you for clarification, EPA may not be able to consider your comment. Electronic files should avoid the use of special characters and any form of encryption, and should be free of any defects or viruses.

Docket: All documents in the electronic docket are listed in the Regional Materials in EDocket (RME) index at http://docket.epa.gov/rmepub/. Although listed in the index, some information is not publicly available, i.e., CBI or other information whose disclosure is restricted by statute. Certain other material, such as copyrighted material, is not placed on the Internet and will be publicly available only in hard copy form. Publicly available materials relevant to this rulemaking are available either electronically in RME or in the official file, which is available at the Air Planning Section (6PD-L), Environmental Protection Agency, 1445 Ross Avenue, Suite 700, Dallas, Texas 75202-2733. The file will be made available by appointment for public inspection in the Region 6 FOIA Review Room between the hours of 8:30 a.m. and 4:30 p.m. weekdays except for legal holidays. Contact the person listed in the FOR FURTHER INFORMATION CONTACT paragraph below or Mr. Bill Deese at 214-665-7253 to make an appointment. If possible, please make the appointment at least two working days in advance of your visit. There will be a 15 cents per page fee for making photocopies of documents. On the day of the visit, please check in at the EPA Region 6 reception area at 1445 Ross Avenue, Suite 700, Dallas, Texas.

The State submittal is also available for public inspection at the State Air Agency listed below during official business hours by appointment:

Texas Commission on Environmental Quality, Office of Air Quality, 12124 Park 35 Circle, Austin, Texas 78753.

FOR FURTHER INFORMATION CONTACT: Carl Young, Air Planning Section (6PD-L), Environmental Protection Agency, Region 6, 1445 Ross Avenue, Suite 700, Dallas, Texas 75202-2733, telephone 214-665-6645; fax number 214-665-7263; e-mail address young.carl@epa.gov.

SUPPLEMENTARY INFORMATION: Throughout this document, wherever “we” “us” or “our” is used, we mean the EPA.

Outline

I. What Action Is EPA Proposing?

II. What Is an EAC?

III. What Is a SIP?

IV. What Is the Content of the Northeast Texas EAC Attainment Demonstration?

V. Why Are We Proposing To Approve This EAC SIP Submittal?

VI. What Measures Are Included in This EAC SIP Submittal?

VII. What Happens if the Area Does Not Meet the EAC Milestones?

VIII. What Do the Agreed Orders Require?

IX. Proposed Action

X. Statutory and Executive Order Reviews

I. What Action Is EPA Proposing?

We are proposing to approve two revisions to the Texas SIP that pertain to Northeast Texas under sections 110 and 116 of the CAA as a strengthening of the SIP. One revision was submitted by the State to EPA on December 6, 2004, in accordance with the area's EAC. This revision incorporates the CAAP and the related attainment demonstration of the 8-hour ozone standard for the Northeast Texas EAC area. The Northeast Texas EAC area includes Gregg, Harrison, Rusk, Smith, and Upshur Counties. On December 20, 2002, a coalition of local stakeholder groups known as North East Texas Air Care (NETAC), including representatives from the EAC Counties, the Cities of Gilmer, Henderson, Kilgore, Longview, Marshall, and Tyler, and the East Texas Council of Governments (ETCOG), signed an EAC with the Texas Commission on Environmental Quality (TCEQ) and EPA. The purpose of the EAC was to develop and implement a CAAP that identifies and implements emission reductions necessary to demonstrate attainment of the 8-hour ozone standard by 2007 and maintain the standard in the region through at least 2012. The EAC includes milestones that tracks implementation of the CAAP. On April 15, 2004, EPA designated the Northeast Texas EAC area as attainment for the 8-hour ozone standard. See 69 FR 23858.

The second revision was submitted by the State to EPA on July 18, 2002. The revision includes Agreed Orders between TCEQ (formerly Texas Natural Resources Conservation Commission) and (1) American Electric Power Company (AEP), (2) TXU Generation Company LP (TXU) and (3) Eastman Chemical Company adopted by the State as emission reduction measures to facilitate attainment of the 1-hour ozone standard. An Agreed Order is an enforceable agreement between a regulated entity and a government regulator. The Agreed Orders require control of nitrogen oxide emissions which contribute to the formation of ozone in the Northeast Texas area. Our approval of the Agreed Orders into the Texas SIP would make them federally enforceable.

II. What Is an EAC?

The EAC program was developed to allow communities an opportunity to meet the new stricter 8-hour ozone standard sooner than the CAA requires for reducing ground level ozone. The EAC program was designed for areas that approach or monitor exceedances of the 8-hour ozone standard, but are in attainment for the 1-hour ozone standard. Areas that adopted EACs must establish a CAAP, meet other established milestones, and attain the 8-hour ozone standard by December 31, 2007. The compact is a voluntary agreement between local communities, State and Tribal air quality officials, and EPA which allows States and local entities to make decisions that will accelerate meeting the new 8-hour ozone standard using locally tailored pollution controls instead of Federally mandated control measures. Early planning and early implementation of control measures that improve air quality will likely accelerate protection of public health. The EPA believes the EAC program provides an incentive for early planning, early implementation, and early reductions of air emissions in the affected areas, thus leading to an expeditious attainment and maintenance of the 8-hour ozone standard.

Communities with EACs will have plans in place to reduce air pollution at least two years earlier than required by the CAA. In December 2002, a number of States submitted compact agreements pledging to reduce emissions earlier than required for compliance with the 8-hour ozone standard. These States and local communities had to meet specific criteria, and agreed to meet certain milestones for development and implementation of the compact. States with communities participating in the EAC program had to submit implementation plans for meeting the 8-hour ozone standard by December 31, 2004, rather than June 15, 2007, the deadline for all other areas not meeting the 8-hour standard. The EAC program required communities to develop and implement air pollution control strategies, account for emissions growth, and demonstrate their attainment and maintenance of the 8-hour ozone standard. For more information on the EAC program see section V of our December 16, 2003 publication entitled “Deferral of Effective Date of Nonattainment Designations for 8-hour Ozone National Ambient Air Quality Standards for Early Action Compact Areas” (68 FR 70108).

On April 15, 2004, EPA designated all areas for the 8-hour ozone standard. EPA designated the Northeast Texas EAC area as attainment for the 8-hour ozone standard. The EPA deferred the effective date of nonattainment designations for other EAC areas that were violating the 8-hour standard, but continue to meet the compact milestones. We announced the details of this deferral on April 15, 2004 as part of the Clean Air Rules of 2004. See our April 30, 2004 (69 FR 23858), publication entitled “Air Quality Designations and Classifications for the 8-Hour Ozone National Ambient Air Quality Standards; Early Action Compact Areas with Deferred Effective Dates.”

III. What Is a SIP?

A SIP is a set of air pollution regulations and control strategies developed by the state, to ensure that the state meets the National Ambient Air Quality Standards (NAAQS). These ambient standards are established under section 109 of the CAA and they currently address six criteria pollutants: Carbon monoxide, nitrogen dioxide, ozone, lead, particulate matter, and sulfur dioxide. The SIP is required by section 110 of the CAA. These SIPs can be extensive, containing state regulations or other enforceable documents and supporting information such as emission inventories, monitoring networks, and modeling demonstrations.

IV. What Is the Content of the Northeast Texas EAC Attainment Demonstration?

In support of this proposal, ETCOG conducted an ozone photochemical modeling study developed for the Northeast Texas EAC area. The photochemical modeling attainment demonstration includes: (1) Analyses which estimate whether selected emissions reductions will result in ambient concentrations that meet the 8-hour ozone standard in the Northeast Texas EAC area and (2) an identified set of measures which will result in the required emissions reductions. See our Technical Support Document (TSD) for a description of the control measures. The demonstration incorporates the effects of population and industry growth as well as national and statewide control measures or programs required to be in place by 2007 and 2012. The modeled attainment test is passed if all resulting predicted future design values are less than 85 parts per billion (ppb). The design value is the three year average of the annual fourth highest 8-hour ozone readings. The attainment demonstration for the Northeast Texas area was supported by results of photochemical modeling and technical documentation. The modeling study demonstrates that the 8-hour ozone standard will continue to be attained by 2007 and maintained through 2012. The modeling analyses were further supported by some of the weight of evidence analyses that were evaluated for the Northeast Texas area.

We believe this study meets our modeling requirements and guidelines, including such items as the base year inventory development, the growth rate projections, and the performance of the model. See our TSD for more information about this modeling study, the weight of evidence analyses, and our evaluation of these items. The modeling submitted in support of this proposal demonstrates that the Northeast Texas EAC area will be in attainment with the 8-hour ozone NAAQS in 2007. The attainment demonstration modeling results for the Northeast Texas EAC area predict a maximum ozone design value of 81 ppb for 2007, which is well below the 8-hour ozone limit of 85 ppb. See section VI of this document for a list of local control measures that were not included in the modeling study, but will be implemented within the Northeast Texas EAC area.

V. Why Are We Proposing To Approve This EAC SIP Submittal?

We are proposing to approve this EAC SIP submittal because implementation of the requirements in this EAC will help ensure the Northeast Texas EAC area's compliance with the 8-hour ozone standard by December 31, 2007 and maintenance of that standard through 2012. We have determined that the CAAP control measures included in the attainment demonstration are quantified, surplus, permanent, and, if approved, will be federally enforceable SIP revisions. We have reviewed the CAAP and the attainment demonstration and determined that they are consistent with the requirements of the CAA, EPA's policy, and the EAC protocol. Our TSD contains detailed information concerning this proposed rulemaking action.

VI. What Measures Are Included in This EAC SIP Submittal?

The modeled attainment demonstration includes state and national emission reduction control measures. See the Modeling TSD for details. The CAAP incorporated into the Northeast Texas EAC SIP also includes: (1) Two local control measures to reduce VOC emissions for the Eastman Chemical Company and the Huntsman Chemical Company plants in Longview, Texas and (2) a number of local control measures that were not included in the modeled attainment demonstration. These measures are in addition to any reductions necessary to demonstrate attainment with the 8-hour ozone standard by 2007. Local control measures included in the Northeast Texas EAC SIP submittal are being implemented to ensure nitrogen oxide and volatile organic compound (VOC) emission reductions. Emissions of these chemicals can react with sunlight to form ozone. All of these control measures are being implemented as called for in the EAC.

Two local control measures which are enforceable through TCEQ air permits are enhanced leak detection and repair programs to control VOC emissions for the Eastman Chemical Company and the Huntsman Chemical Company plants in Longview, Texas. The Eastman Chemical Company program is enforceable under Texas Voluntary Emissions Reduction Permits 47007, 48588, and 48590. The Huntsman Chemical Company program is enforceable under Texas Flexible Plant-wide Applicability Limit Permit 18105. These programs should reduce highly reactive VOC emissions by 0.63 tons per day for the Eastman Chemical Company plant and 0.08 tons per day for the Huntsman Chemical Company plant. Copies of these permits may be obtained from TCEQ.

Local control measures that were not included in the modeled attainment demonstration, but which are being implemented to lower emissions in the area are: (1) Implementation of the Texas Emissions Reduction Plan (TERP), (2) use of 18 lower emitting propane light heavy-duty vans purchased in 2003 and 2004, (3) a public education and ozone awareness program and (4) energy efficiency programs for the Cities of Longview, Marshall, and Tyler.

TERP is a set of incentive programs aimed at improving air quality in Texas. TERP provides funding to offset the incremental costs of projects associated with reducing nitrogen oxide emissions from high-emitting internal combustion engines. Projects in the Northeast Texas EAC area are eligible for TERP funding. Texas has allocated funding for up to 1.5 tons per day of nitrogen oxide reductions in the Northeast Texas EAC area by 2007.

Eighteen new lower emitting propane heavy-duty vans were purchased in 2003 and 2004 for the ETCOG Rural Transportation Program, the City of Longview, and Tyler Transit. Use of these vans will reduce VOC and nitrogen oxide emissions.

ETCOG is implementing a public education and ozone awareness program for the Northeast Texas area. The purpose of the program is to encourage practices that reduce emissions that lead to ozone formation. It includes: (1) An ozone watch and warning communications network, (2) a NETAC Web site (http://www.netac.org), (3) school programs and teacher training and (4) distribution of public information and educational materials.

The Cities of Longview, Marshall, and Tyler are implementing energy efficiency programs. These programs can reduce the demand for electricity and thus reduce emissions from electric generating power plants.

EPA has determined that the control measures included in the attainment demonstration are consistent with the requirements of the EPA Protocol for EAC control strategies in that the measures are specific, quantified, permanent, and, if approved by EPA, will be federally enforceable SIP revisions. In accordance with the EAC, the signatories will review all EAC activities and report results in their semi-annual reports. The control measures in the CAAP approved through this SIP revision will provide reductions in nitrogen oxides (NOX) and volatile organic compounds (VOCs), which are precursors to and aid in the formation of ozone, in the Northeast Texas EAC area.

Finally, per the EAC protocol, an emissions inventory was developed for the year 2012. The 2012 inventory show that anthropogenic emissions of both nitrogen oxides and VOCs decrease from 2007 to 2012, as the result of locally implemented control measures and Federal emissions control programs for vehicles. This decrease in emissions is additional evidence that the Northeast Texas EAC area will maintain the 8-hour ozone standard through 2012.

VII. What Happens if the Area Does Not Meet the EAC Milestones?

On April 15, 2004 EPA designated the Northeast Texas EAC area as attainment for the 8-hour ozone standard. We believe the local and State signatories of the EAC area will continue to meet their commitments to reduce ozone pollution. The EAC signatories are required to review all CAAP commitments and report progress in semi-annual reports beginning in June 2005. The semi-annual report will provide a description of whether the area continues to implement its control measures, the emissions reductions being achieved by the control measures, and the improvements in air quality that are being made. The report will track and document, at a minimum, control strategy implementation and results, monitoring data and future plans. Ongoing, updated emissions inventories and modeling analyses will be included as they become available. After each semi-annual review, additional control measures may be considered and, if necessary, adopted through revisions to the SIP.

The measures outlined in the submittal provide sufficient information for us to conclude that the Northeast Texas EAC area will complete each EAC milestone and the actions agreed upon in the CAAP. However, one of the principles of the EAC protocol is to provide safeguards to return areas to traditional SIP requirements should an area fail to comply with the terms of the compact. If a milestone is missed and the area is still in attainment of the 8-hour ozone standard, we would take action to propose and promulgate a finding of failure to meet the milestone, but the ozone attainment designation and approved SIP elements would remain in effect. If the area has a violation of the 8-hour standard and a milestone is missed, we would also consider factors in section 107(d)(3)(A) of the Act in deciding whether to redesignate the area as nonattainment for the 8-hour ozone NAAQS. See 69 FR 23858, 23871.

VIII. What Do the Agreed Orders Require?

In 2001 Texas and NETAC developed an early SIP to facilitate attainment of the 1-hour ozone standard in Northeast Texas. They worked with AEP, TXU, and Eastman Chemical Company to develop Agreed Orders to require reductions of nitrogen oxide emissions. Our approval of the Agreed Orders into the Texas SIP would make them federally enforceable.

The Agreed Order for AEP, (Agreed Order 2001-0878-RUL), requires the company to limit nitrogen oxide emissions at their Knox Lee, Pirkey, and Wilkes electric generating plants. These plants are located in Gregg, Harrison, and Cass Counties, respectively. The Agreed Order calls for the company to implement several projects to reduce nitrogen oxide emissions. It specifies 30 day rolling average nitrogen oxide emission rates to be achieved at Knox Lee Plant Unit number 5, Wilkes Plant Unit numbers 2 and 3, and the Pirkey Plant. “Thirty day rolling average” means an average, calculated for each day that fuel is combusted in a unit, of all the hourly emissions data for the preceding 30 days that fuel was combusted in the unit. A nitrogen oxide emission rate of 0.18 pounds per million British Thermal Units (lb/mmBtu) will be achieved at Knox Lee Plant Unit number 5. Wilkes Plant Unit numbers 2 and 3 will each achieve a nitrogen oxide emission rate of 0.17 lb/mmBtu. The Pirkey Plant will achieve a nitrogen oxide emission rate of 0.22 lb/mmBtu. As an alternative to achieving the reductions at the Knox Lee and Wilkes plants, AEP is allowed to achieve equivalent reductions at the Pirkey plant, in excess of the 30 day rolling average nitrogen oxide emission rate of 0.22 lb/mmBtu. As an alternative to completing any of the projects to achieve the nitrogen oxide emission reductions AEP may propose to the State projects that would achieve equivalent emissions reductions. Additionally, as an alternative to achieving the nitrogen oxide emission reductions at the Wilkes and Knox Lee plants, AEP may propose to the State projects that would achieve equivalent emissions reductions at the Pirkey Plant. TCEQ will evaluate alternative proposals under 30 TAC Chapter 115, Subchapter J. This process requires public notification of proposals and was approved by EPA on May 22, 1997 (62 FR 27964).

The Agreed Order for TXU, (Agreed Order 2001-0879-RUL), requires TXU to limit nitrogen oxide emissions at their Martin Lake and Monticello electric generating plants. These plants are located in Rusk and Titus Counties, respectively. The Agreed Order calls for the company to operate low nitrogen oxide technology on the three primary generating units at each plant in order to reduce nitrogen oxide emissions. It specifies that operation of the three primary generating units at each plant will achieve a 30 day rolling average nitrogen oxide emission rate of 0.2 lb/mmBtu. As an alternative to operating the low nitrogen oxide technology and achieving the nitrogen oxide emission reductions on the three primary generating units at each plant the company may propose to the State alternative projects that would achieve equivalent emissions reductions. TCEQ will evaluate alternative proposals under 30 TAC Chapter 115, Subchapter J.

The Agreed Order for Eastman Chemical Company, (Agreed Order 2001-0880-RUL), requires the company to make changes that will reduce nitrogen oxide emissions at their chemical and plastics manufacturing plant in Longview, Texas. The Agreed Order specifies that the company will: (1) Shut down one cooling tower engine, (2) commit one older natural gas fired engine to serve only in a back-up service capacity, restrict its operation to 2,190 hours annually and track its operating time, (3) shut down five older natural gas fired engines, (4) shut down ten gas reformer furnaces and (5) shut down two synthesis gas heaters. In order to re-start any facility that was shut down under this agreement, Eastman may propose to the State one or more alternative projects that would achieve equivalent emissions reductions. TCEQ will evaluate alternative proposals under 30 TAC Chapter 115, Subchapter J.

IX. Proposed Action

EPA is proposing to approve revisions to the Texas SIP pertaining to the Northeast Texas area. These revisions pertain to (1) the CAAP for the Northeast Texas EAC area and the related attainment demonstration of the 8-hour ozone standard for the EAC area and (2) Agreed Orders regarding control of air pollution for the Northeast Texas area. The revisions will contribute to improvement in air quality and continued attainment of the NAAQS for ozone in Northeast Texas. We have evaluated the State's submittal and have determined that it meets the applicable requirements of the CAA and EPA air quality regulations, and is consistent with EPA policy and the EAC protocol.

X. Statutory and Executive Order Reviews

Under Executive Order 12866 (58 FR 51735, October 4, 1993), this proposed action is not a “significant regulatory action” and therefore is not subject to review by the Office of Management and Budget. For this reason and because this action will not have a significant, adverse effect on the supply, distribution, or use of energy, this action is also not subject to Executive Order 13211, “Actions Concerning Regulations That Significantly Affect Energy Supply, Distribution, or Use” (66 FR 28355, May 22, 2001). This proposed action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Pub. L. 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have federalism implications because it does not have substantial direct effects on the States, on the relationship between the national government and the States, or on the distribution of power and responsibilities among the various levels of government, as specified in Executive Order 13132 (64 FR 43255, August 10, 1999). This action merely proposes to approve a state rule implementing a Federal standard, and does not alter the relationship or the distribution of power and responsibilities established in the Clean Air Act. This proposed rule also is not subject to Executive Order 13045 “Protection of Children from Environmental Health Risks and Safety Risks” (62 FR 19885, April 23, 1997), because it is not economically significant.

In reviewing SIP submissions under the National Technology Transfer and Advancement Act of 1995 (15 U.S.C. 272 note), EPA's role is to approve state actions, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 do not apply. This proposed rule does not impose an information collection burden under the provisions of the Paperwork Reduction Act of 1995 (44 U.S.C. 3501 et seq.).

List of Subjects in 40 CFR Part 52

Environmental protection, Air pollution control, Intergovernmental relations, Nitrogen dioxide, Ozone, Reporting and recordkeeping requirements, Volatile organic compounds.

Authority: 42 U.S.C. 7401 et seq.

Dated: May 6, 2005.
Richard E. Greene,
Regional Administrator, Region 6.

[FR Doc. 05-9720 Filed 5-13-05; 8:45 am]

BILLING CODE 6560-50-P